NATIONAL SCIENCE FOUNDATION

Notice of Permit Applications Received Under the Antarctic Conservation Act of 1978 (Pub. L. 95-541)

AGENCY: National Science Foundation.

ACTION: Notice of permit applications received under the Antarctic Conservation Act of 1978, Pub. L. 95-541.

SUMMARY: The National Science Foundation (NSF) is required to publish notice of permit applications received to conduct activities regulated under the Antarctic Conservation Act of 1978. NSF has published regulations under the Antarctic Conservation Act at title 45 part 670 of the Code of Federal Regulations. This is the required notice of permit applications received.

DATES: Interested parties are invited to submit written data, comments, or views with respect to this permit application by July 13, 2007. This application may be inspected by interested parties at the Permit Office, address below.

ADDRESS: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

1. Applicant, Permit Application No. 2008-002

Ross D. E. MacPhee, Department of Mammalogy, American Museum of Natural History, Central Park West @ 79th Street, New York, NY 10024.

Activity for Which Permit Is Requested

Enter an Antarctic Specially Protected Area (ASPA). The applicant plans to enter the Byers Peninsula protected area (ASPA #126) to search for late Mesozoic vertebrate fossils (dinosaurs, mosasaurs, plesuisaurs, birds and mammals). Collection of such items, in addition to those known from the east side of the Antarctic Peninsula, would be major contributions to the Antarctic record of vertebrate evolution. Rock samples would also be collected for stable isotopes of oxygen, carbon, and hydrogen to shed light on late Mesozoic climatic conditions in the area of the South Shetlands and to improve correlations with other areas.

Location

Byers Peninsula (ASPA #126), Livingston Island.

Dates

November 24, 2007 to December 31, 2007.

2. Applicant, Permit Application No. 2008-003

Anthony Powell, 32742 Alipaz #94, San Juan Capistrano, CA 92675.

Activity for Which Permit Is Requested

Enter an Antarctic Specially Protected Area (ASPA). The applicant proposes to enter Cape Evans (ASPA #155) for the purpose of photography. The applicant is a participant in the U.S. Antarctic Program's Artists and Writers Program who will film an overall “Year on Ice” time-lapse photography project, which will document the Antarctic environment, landscapes, living conditions, and researchers at work through an Antarctic year. Photography of the historic hut at Cape Evans would be part of this project. Depending on the weather patterns at the time, it may also give an indication of erosion patterns affecting the site, which could be of great use to conservators.

Location

Historic Hut at Cape Evans (ASPA #155).

Dates

November 1, 2007 to December 10, 2007.

3. Applicant, Permit Application No. 2008-004

Arthur L. DeVries, Department of Animal Biology, 524 Burrill Hall, University of Illinois, Urbana, IL 61801.

Activity for Which Permit Is Requested

Introduce non-indigenous species into Antarctica. The applicant proposes to use 15 New Zealand black cod (Notothenia angustata) in experiments to determine whether antifreeze glycoproteins are absorbed from the intestinal tract into the blood stream. (These fish are related to the Trematomus fishes in Antarctica but do not produce antifreeze glycoproteins that would enable them to survive in Antarctic waters.) The Black cod will be fed nototheniid fish muscle supplemented with antifreeze glycoproteins. Periodic blood samples will be taken to ascertain whether antifreeze glycoproteins are being transported from the intestinal fluid into the bloodstream. Upon completion of the experiments the fish will be sacrificed, their tissues and blood collected, and they will be preserved in formalin and sent to the fish collection at the University of Illinois.

Location

McMurdo Station seawater aquarium.

Dates

September 25, 2007 to January 31, 2008.

4. Applicant, Permit Application No. 2008-005

Rachael Morgan-Kiss, Delaware Biotechnology Institute, 15 Innovation Way, Newark, DE 19711.

Activity for Which Permit Is Requested

Introduce non-indigenous species into Antarctica. The applicant proposes to bring 10g cell pellets of green algae (Chlamydomonas raudensis), originally collected from Antarctica, for use in experiments to link their understanding of physiological responses in this organism in a laboratory setting with photosynthetic adaptation during the transition between summer and winter in its natural environment. The algal pellets will be used to grow algae cultures which will be transferred to dialysis tubing at the Lake Bonney laboratory. The dialysis chambers will be suspended in the Lake Bonney water column. Once the samples are collected they will be extracted at the Bonney Lake Lab or at Crary Lab at McMurdo Station, resulting in the death of all cells. The cells will be processed in a variety of ways for different analyses back in the U.S. Any remaining viable cultures will be autoclaved to ensure 100% mortality of unused cultures.

Location

Lake Bonney field camp, Taylor Valley, and Crary Laboratory at McMurdo Station.

Dates

February 25, 2008 to April 10, 2008.

Nadene G. Kennedy,
Permit Officer, Office of Polar Programs.

[FR Doc. E7-11341 Filed 6-12-07; 8:45 am]

BILLING CODE 7555-01-P